DEPARTMENT OF ENERGY

Federal Energy Regulatory Commission

Notice of Application for Amendment of License and Soliciting Comments, Motions To Intervene, and Protests

April 22, 2003.

a. Type of Filing: Amendment of license to increase project installed capacity from 17,003 kW to 20,090 kW.

b. Project No: 3947-012.

c. Date Filed: March 18, 2003.

d. Applicant: Kaweah River Power Authority.

e. Name of Project: Terminus Project.

f. Location: The project is located on the Kaweah River at the Corps of Engineers' Terminus Dam, Lake Kaweah, Tulare County, California.

g. Filed Pursuant to: Federal Power Act, 16 U.S.C. 791(a)-825(r), section 4.201 of the Commission's regulations.

h. Applicant Contact: Bruce George, Secretary, Kaweah River Power Authority, 2975 No. Farmersville Blvd., Farmersville, CA, email: bgeorge@lightspeed.net, and at Minasian, Spruance, Baber, Meith, Soares & Sexton, LLP, attn: Jeffrey Meith, Esq., P.O. Box 1679, Oroville, CA, email: jmeith@minasianlaw.com.

i. FERC Contact: William Guey-Lee, (202) 502-6064, or william.gueylee@ferc.gov.

j. Deadline for filing comments, motions to intervene or protests: May 23, 2003.

The Commission's rules of practice and procedure require all intervenors filing documents with the Commission to serve a copy of that document on each person whose name appears on the official service list for the project. Further, if an intervenor files comments or documents with the Commission relating to the merits of an issue that may affect the responsibilities of a particular resource agency, they must also serve a copy of the document on that resource agency.

k. Description of Project: The Terminus Project is an existing facility located at the Corps of Engineers (COE) Terminus Dam. Project operation is incidental to the flood control and irrigation functions of the dam. The COE is enlarging the Terminus Dam, which will increase storage capacity from 143,000 acre-feet to 183,000 acre-feet and raise the pool elevation from 694 feet to 715 feet. To avoid impact of and utilize the additional head and storage, licensee proposes to: (1) Upgrade turbine thrust bearing (completed 2000); (2) rewind the generator; and (3) upgrade the excitation system. There will be no change in project boundaries or project operation or project hydraulic capacity. Water releases will not be affected. There will be additional energy generation and the nameplate capacity will go from 17,003 kW to 20,090 kW.

l. Location of the Filing: A copy of the filing is available for inspection and reproduction at the Commission's Public Reference Room, located at 888 First Street, NE., Room 2A, Washington, DC 20426, or by calling (202) 502-8371 and may also be viewed on the Commission's Web site at http://www.ferc.gov, using the “FERRIS” link. Enter the project number excluding the last three digits in the project number field to access the document. For assistance, please contact FERC Online Support at FERCOnlineSupport@ferc.gov or toll-free at (866) 208-3676, or for TTY, contact (202) 502-8659. A copy is also available for inspection and reproduction at the address in item h above.

m. Individuals desiring to be included on the Commission's mailing list should so indicate by writing to the Secretary of the Commission.

Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

Filing and Service of Responsive Documents—Any filings must bear in all capital letters the title “COMMENTS”, “PROTEST”, OR “MOTION TO INTERVENE”, as applicable, and the Project Number of the particular application to which the filing refers. Any of the above-named documents must be filed by providing an original and eight copies to: the Secretary, Federal Energy Regulatory Commission, 888 First Street, NE., Washington, DC 20426. A copy of any motion to intervene must also be served upon each representative of the Applicant specified in the particular application.

Comments, protests and interventions may be filed electronically via the Internet in lieu of paper. See 18 CFR 385.2001(a)(1)(iii) and the instructions on the Commission's Web site under the “e-Filing” link.

Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-10465 Filed 4-28-03; 8:45 am]

BILLING CODE 6717-01-P